DEPARTMENT OF DEFENSE

Department of the Navy

Notice of Availability of Record of Decision for the Silver Strand Training Complex, California

AGENCY: Department of the Navy, DoD.

ACTION: Notice.

SUMMARY: The United States Department of the Navy (DoN), after carefully weighing the operational and environmental consequences of the proposed action, announces its decision to improve the availability and quality of training opportunities at the DoN's Silver Strand Training Complex (SSTC), CA. The DoN has decided to implement the preferred alternative, Alternative 1, Increase Training and Access to SSTC Training Areas, as described in the SSTC Final Environmental Impact Statement (FEIS) dated January 2011. Alternative 1 is the environmentally preferred alternative because it implements the mitigation and management measures needed to protect the environment while allowing DoN and DoD to meet current and near-term training and test and evaluation requirements.

SUPPLEMENTARY INFORMATION: The complete text of the Record of Decision is available for public viewing on the project Web site at http://www.silverstrandtrainingcomplexeis.com, along with copies of the FEIS and supporting documents. Single copies of the Record of Decision are available by contacting: Ms. Amy P. Kelley, Naval Facilities Engineering Command Southwest, Code EV21.AK, 1220 Pacific Highway, San Diego, California 92132, email: amy.p.kelly@navy.mil. The project Web site is found at http://www.silverstrandtrainingcomplexeis.com.

Dated: August 24, 2012.
C. K. Chiappetta,
Lieutenant Commander, Office of the Judge Advocate General, U.S. Navy, Administrative Law Division, Federal Register Liaison Officer.

[FR Doc. 2012-21458 Filed 8-29-12; 8:45 am]

BILLING CODE 3810-FF-P